DEPARTMENT OF ENERGY

Federal Energy Regulatory Commission

[Docket No. ER00-3596-001, et al.]

American Electric Power Service Corporation, et al.; Electric Rate and Corporate Regulation Filings

December 19, 2000.

Take notice that the following filings have been made with the Commission:

1. American Electric Power Service Corporation

[Docket No. ER00-3596-001]

Take notice that on December 12, 2000, the American Electric Power Service Corporation (AEPSC) tendered for filing an Amendment to Filing in Docket ER00-3596-000. In AEPSC's initial filing on September 1, 2000, AEPSC failed to provide designations for two service agreements which were submitted for filing by the AEP Companies in the above referenced docket under the Wholesale Market Tariff of the AEP Operating Companies (Power Sales Tariff ). Pursuant to the Commissions' Order No. 614 in Docket No. RM99-12-000, AEPSC respectfully designates the service agreements with TransCanada Power Marketing Ltd. as Service Agreement No. 267 and with Wisconsin Public Power, Inc. as Service Agreement 268. The Power Sales Tariff was accepted for filing effective October 10, 1997, and has been designated AEP Companies' FERC Electric Tariff Original Volume No. 5. AEPSC respectfully requests waiver of notice to permit this service agreement to be made effective as initially requested on or prior to August 7, 2000.

A copy of the filing was served upon the Parties and the State Utility Regulatory Commissions of Indiana, Kentucky, Michigan, Ohio, Tennessee, Virginia and West Virginia.

Comment date: January 2, 2001, in accordance with Standard Paragraph E at the end of this notice.

2. Central Hudson Gas & Electric Corporation

[Docket No. ER00-3661-000]

Take notice that on December 11, 2000, Central Hudson Gas and Electric Corporation (Central Hudson), tendered for filing its Rate Schedule FERC No. 201 which sets forth the terms and charges for transmission facilities provided by the Company to Consolidated Edison Company of New York, Inc. and Niagara Mohawk Power Corporation for the transmission of output from the Roseton Generating Station.

Rate Schedule FERC No. 201 is issued in compliance with the October 10, 2000 Order issued in Docket No. ER00-3661-000, which required the Company to file rate schedule designations as required in Order No. 614. Accordingly, Rate Schedule FERC No. 201 supersedes Rate Schedule FERC No. 42.

Central Hudson states that a copy of its filing was served on Con Edison, Niagara Mohawk and the State of New York Public Service Commission.

Comment date: January 2, 2001, in accordance with Standard Paragraph E at the end of this notice.

3. Oklahoma Gas and Electric Company

[Docket No. ER01-646-000]

Take notice that on December 12, 2000, Oklahoma Gas and Electric Company (OG&E), tendered for filing, an Interconnection Agreement with Redbud Energy LP (Redbud). The Interconnection Agreement provides for interconnection of the Redbud facility to the OG&E transmission system at the rates, terms, charges, and conditions set forth therein.

OG&E is requesting that the Interconnection Agreement become effective as of November 27, 2000 and is also requesting waiver of the Commission's Notice requirements. OG&E designates the Interconnection Agreement as Service Agreement No. 45 under FERC Electric Tariff, Second Revised Volume 2.

Copies of this filing have been served upon the Oklahoma Corporation Commission, the Texas Public Utility Commission and on Redbud.

Comment date: January 2, 2001, in accordance with Standard Paragraph E at the end of this notice.

4. Public Service Company of New Mexico

[Docket No. ER01-647-000]

Take notice that on December 12, 2000, Public Service Company of New Mexico (PNM) submitted for filing an executed service agreement with PacifiCorp Power Marketing, Inc. (PacifiCorp) under the terms of PNM's Open Access Transmission Tariff for short-term firm point-to-point transmission service. PNM's filing is available for public inspection at its offices in Albuquerque, New Mexico.

Copies of the filing have been sent to PacifiCorp and to the New Mexico Public Regulation Commission.

Comment date: January 2, 2001, in accordance with Standard Paragraph E at the end of this notice.

5. The Dayton Power and Light Company

[Docket No. ER01-648-000]

Take notice that on December 12, 2000, The Dayton Power and Light Company (Dayton) submitted service agreements establishing Engage Energy America Corp. as customers under the terms of Dayton's Open Access Transmission Tariff.

Copies of this filing were served upon Engage Energy America Corp. and the Public Utilities Commission of Ohio.

Comment date: January 2, 2001, in accordance with Standard Paragraph E at the end of this notice.

6. The Dayton Power and Light Company

[Docket No. ER01-649-000]

Take notice that on December 12, 2000, The Dayton Power and Light Company (Dayton) submitted service agreements establishing with Engage Energy America Corp. as customers under the terms of Dayton's Open Access Transmission Tariff.

Copies of this filing were served upon Engage Energy America Corp. and the Public Utilities Commission of Ohio.

Comment date: January 2, 2001, in accordance with Standard Paragraph E at the end of this notice.

7. Cinergy Services, Inc.

[Docket No. ER01-650-000]

Take notice that on December 12, 2000, Cinergy Services, Inc. (Cinergy) tendered for filing a Service Agreement under Cinergy's Resale, Assignment or Transfer of Transmission Rights and Ancillary Service Rights Tariff (the Tariff) entered into between Cinergy and Tenaska Power Services Co. This Service Agreement has been executed by both parties and is to replace the existing unexecuted Service Agreement.

Comment date: January 2, 2001, in accordance with Standard Paragraph E at the end of this notice.

8. Southwestern Electric Power Company

[Docket No. ER01-651-000]

Take notice that on December 12, 2000, Southwestern Electric Power Company (SWEPCO) tendered for filing a proposed fixed return on common equity to be used in establishing estimated and final redetermined formula rates for wholesale service to Northeast Texas Electric Cooperative, Inc., the City of Bentonville, Arkansas, the City of Hope, Arkansas, Rayburn Country Electric Cooperative, Inc., LaGen Generating LLC, Inc., Tex-La Electric Cooperative of Texas Inc. and East Texas Electric Cooperative, Inc. SWEPCO currently provides service to these Customers under contracts which provide for periodic changes in rates and charges determined in accordance with cost-of-service formulas, including a formulaic determination of the return on common equity which SWEPCO proposes to replace with a fixed return on common equity. SWEPCO proposes no other changes to the formula rates.

Copies of the filing were served on the affected wholesale Customers, the Public Utility Commission of Texas, the Louisiana Public Service Commission and the Arkansas Public Service Commission.

Comment date: January 2, 2001, in accordance with Standard Paragraph E at the end of this notice.

9. American Transmission Systems, Inc.

[Docket No. ER01-661-000]

Take notice that on December 13, 2000, American Transmission Systems, Inc., tendered for filing a Service Agreement to provide Non-Firm Point-to-Point Transmission Service for City of Cleveland, Department of Public Utilities, Division of Cleveland Public Power, the Transmission Customer. Services are being provided under the American Transmission Systems, Inc. Open Access Transmission Tariff submitted for filing by the Federal Energy Regulatory Commission in Docket No. ER99-2647-000.

The proposed effective date under the Service Agreement is December 11, 2000 for the above mentioned Service Agreement in this filing.

Comment date: January 2, 2001, in accordance with Standard Paragraph E at the end of this notice.

10. EWO Marketing, L.P.

[Docket No. ER01-666-000]

Take notice that on December 12, 2000, EWO Marketing, L.P. tendered for filing an application for authorization to sell wholesale power at market-based rates.

Copies of this filing have been served on the Arkansas Public Service Commission, Mississippi Public Service Commission, Louisiana Public Service Commission, Texas Public Utility Commission, and the Council of the City of New Orleans.

Comment date: January 2, 2001, in accordance with Standard Paragraph E at the end of this notice.

11. Axia Energy, L.P.

[Docket No. ER01-667-000]

Take notice that on December 12, 2000, Axia Energy, L.P. tendered for filing an application for authorization to sell wholesale power at market-based rates. Copies of this filing have been served on the Arkansas Public Service Commission, Mississippi Public Service Commission, Louisiana Public Service Commission, Texas Public Utility Commission, and the Council of the City of New Orleans.

Comment date: January 2, 2001, in accordance with Standard Paragraph E at the end of this notice.

12. PJM Interconnection, L.L.C.

[Docket No. ER01-675-000]

Take notice that on December 13, 2000, PJM Interconnection, L.L.C. (PJM) tendered for filing: (1) Ten signature pages of parties to the Reliability Assurance Agreement among Load Serving Entities in the PJM Control Area (RAA), six of which are replacement pages for entities which have changed their corporate name and four of which are additional parties to the RAA; (2) request for Commission approval of the withdrawal of six parties from the RAA; (3) an amended Schedule 17 of the RAA adding the new entities to the list of RAA signatories, deleting the entities that are withdrawing or have withdrawn from the RAA, and reflecting the corporate name changes; (4) Notice of Cancellation for Citizens Power Sales to terminate its membership in PJM and to withdraw it as a signatory to the RAA; (5) Notice of Cancellation of DTE-CoEnergy, L.L.C. to terminate its membership in PJM, to cancel certain service agreements with PJM, and to withdraw it as a signatory to the RAA; and (6) Notices of Cancellation for CNG Energy Services Corporation, Coral Power, L.L.C., and FPL Energy Services, Inc. to withdraw them as a signatories to the RAA.

PJM states that it served a copy of its filing on all parties to the RAA, including the parties for which a signature page is being tendered with this filing, the parties that are withdrawing from the RAA, the PJM members, and each of the state electric regulatory commissions within the PJM control area.

Comment date: January 4, 2001, in accordance with Standard Paragraph E at the end of this notice.

13. Louisville Gas and Electric Company/Kentucky Utilities Company

[Docket No. ER01-672-000]

Take notice that on December 13, 2000, Louisville Gas and Electric Company (LG&E)/Kentucky Utilities (KU) (hereinafter Companies), tendered for filing executed transmission service agreement with Engage Energy America Corp (Engage). The agreement allows Engage to take firm point-to-point transmission service from LG&E/KU.

Comment date: January 4, 2001, in accordance with Standard Paragraph E at the end of this notice.

14. Louisville Gas and Electric Company/Kentucky Utilities Company

[Docket No. ER01-671-000]

Take notice that on December 13, 2000, Louisville Gas and Electric Company (LG&E)/Kentucky Utilities (KU) (hereinafter Companies), tendered for filing an executed Netting Agreement between the Companies and MIECO, Inc.

Comment date: January 4, 2001, in accordance with Standard Paragraph E at the end of this notice.

15. Louisville Gas and Electric Company/Kentucky Utilities Company

[Docket No. ER01-670-000]

Take notice that on December 13, 2000, Louisville Gas and Electric Company (LG&E)/Kentucky Utilities (KU) (hereinafter Companies), tendered for filing an executed transmission service agreement with Engage Energy America Corp., (Engage). This agreement allows Engage take non-firm point-to-point transmission service from LG&E/KU.

Comment date: January 4, 2001, in accordance with Standard Paragraph E at the end of this notice.

16. Louisville Gas and Electric Company/Kentucky Utilities Company

[Docket No. ER01-669-000]

Take notice that on December 13, 2000, Louisville Gas and Electric Company (LG&E)/Kentucky Utilities (KU) (hereinafter Companies), tendered for filing an executed unilateral Service Sales Agreement between Companies and MIECO, Inc., under the Companies' Rate Schedule MBSS.

Comment date: January 4, 2001, in accordance with Standard Paragraph E at the end of this notice.

17. Southern California Edison Company

[Docket No. ER01-660-000]

Take notice that on December 15, 2000, Southern California Edison Company (SCE) tendered for filing an Interconnection Facilities Agreement (Interconnection Agreement) between Wintec Energy, Ltd. (Wintec) and SCE.

This Interconnection Agreement specifies the terms and conditions pursuant to which SCE will interconnect Wintec's 45 MW generating facility to the ISO Controlled Grid.

Comment date: January 5, 2001, in accordance with Standard Paragraph E at the end of this notice.

18. Wisconsin Public Service Corporation

[Docket No. ER01-653-000]

Take notice that on December 13, 2000, Wisconsin Public Service Corporation tendered for filing an executed service agreement with Consolidated Water Power Company under its Market-Based Rate Tariff, FERC Electric Tariff Volume No. 10.

Comment date: January 4, 2001, in accordance with Standard Paragraph E at the end of this notice.

19. Commonwealth Edison Company

[Docket No. ER01-497-001]

Take notice that on December 13, 2000, Commonwealth Edison Company (ComEd) tendered for filing three executed Non-Firm Transmission Service Agreements with the Ameren Energy Marketing (AEM), Consumers Energy Company (CEC), and Upper Peninsula Power Company (UPP); one unexecuted Non-Firm Transmission Service Agreement with LS Power, LLC (LSP); ten executed Short-Term Firm Transmission Service Agreements with Aquila Energy Marketing Corporation (AEMC), Ameren Energy Marketing (AEM) Florida Power Corporation (FPC), Griffin Energy Marketing, L.L.C. (GEM), Minnesota Power, Inc. (MP), New York State Electric & Gas Corporation (NYSEG), City of Rochelle, Illinois (ROCH), Strategic Energy, L.L.C. (SEL), Upper Peninsula Power Company (UPP), and Williams Energy Marketing & Trading Company (WEMT) under the terms of ComEd's Open Access Transmission Tariff (OATT). Due to an administrative oversight, some pages of these agreements were not included in the original November 22, 2000 filing. Per an informal request of FERC Staff, ComEd is accordingly resubmitting the entire filing.

Upon the request of AEMC and WEMT, ComEd is submitting re-executed Agreements for AEMC and WEMT that reflect the new names of these companies. The Agreement with AEMC was previously filed in Docket No. ER98-446-000, granted an effective date of October 8, 1997 and designated Service Agreement No. 195. The Agreement with WEMT was previously filed in Docket No. ER98-3779-000, granted an effective date of June 21, 1998 and designated Service Agreement No. 296. ComEd respectfully requests that the re-executed Agreements for AEMC and WEMT be granted the same effective dates as was accorded them in the Docket No. ER98-446-000 and Docket No. ER98-3779-000 proceedings. Good cause supports ComEd's request as the re-execution of these Agreements is being done at the request of AEMC and WEMT so as to reflect the new names of AEMC and WEMT. See Central Hudson Gas & Electric Company, 60 FERC 61,106 (1992).

ComEd also submitted for filing an updated Index of Customers reflecting name changes for current customers Aquila Power renamed Aquila Energy Marketing Corporation (AEMC), Ameren Services Company renamed Ameren Energy Inc. (AEI), Public Service Electric and Gas Company renamed PSEG Energy Resources & Trade LLC (PSEG ER&T), Calpine Power Services Company renamed Calpine Energy Services, L.P. (CES), Amoco Energy Trading Corporation renamed BP Energy Company (BP), Minnesota Power and Light Company renamed Minnesota Power, Inc. (MP), Citizens Power LLC renamed Edison Mission Marketing & Trading, Inc. (EMMT), and Williams Energy Services Company renamed Williams Energy Marketing & Trading Company (WEMT).

ComEd requests an effective date of November 22, 2000 for the Non-Firm Agreements with AEM, CEC and LSP; an effective date of November 9, 2000 for the Non-Firm Agreement with UPP to coincide with the first day of service; and an effective date of November 22, 2000 for the Short-Term Firm Agreements with AEM, FPC, GEM, MP, NYSEG, ROCH, SEL, and UPP, and accordingly, seeks waiver of the Commission's notice requirements.

Comment date: January 4, 2001, in accordance with Standard Paragraph E at the end of this notice.

20. Southern Company Services, Inc.

[Docket No. ER01-668-000]

Take notice that on December 14, 2000, Southern Company Services, Inc., acting on behalf of Alabama Power Company, Georgia Power Company, Gulf Power Company, Mississippi Power Company, and Savannah Electric and Power Company (collectively referred to as Southern Companies), tendered an amendment to the Open Access Transmission Tariff of Southern Companies (FERC Electric Tariff, Third Revised Volume No. 5) (Tariff). The purpose of the amendment is to incorporate into the Tariff specific Creditworthiness criteria, Procedures for Obtaining Interconnection Service, and Source and Sink Requirements for Point-to-Point Transmission Service. In addition, the Tariff is being refiled in its entirety so as to comply with the Commission's Order No. 614 pertaining to electric rate schedule sheet designations. Electronic copies of this filing (including the amended Tariff) are available for download on OASIS.

Comment date: January 5, 2001, in accordance with Standard Paragraph E at the end of this notice.

21. Louisville Gas and Electric Company/Kentucky Utilities Company

[Docket No. ER01-673-000]

Take notice that on December 13, 2000, Louisville Gas and Electric Company (LG&E)/Kentucky Utilities (KU) (hereinafter Companies), tendered for filing an executed Netting Agreement between the Companies and TXU Energy Trading Company.

Comment date: January 4, 2001, in accordance with Standard Paragraph E at the end of this notice.

22. Mobile Energy LLC

[Docket No. ER01-480-001]

Take notice that on December 13, 2000, Mobile Energy LLC tendered for filing an amendment to its application for waivers and blanket approvals under various regulations of the Commission and for an order accepting its FERC Electric Rate Schedule No. 1 filed in the above-referenced docket.

Comment date: January 4, 2001, in accordance with Standard Paragraph E at the end of this notice.

23. Louisville Gas and Electric Company/Kentucky Utilities Company

[Docket No. ER01-337-001]

Take notice that on December 13, 2000, Louisville Gas and Electric Company (LG&E)/Kentucky Utilities (KU) (hereinafter Companies), tendered for filing an amendment to its November 1, 2000, executed Netting Agreement (LGE/KU Rate Schedule 9) between the Companies and Rainbow Energy Marketing Corporation.

Comment date: January 4, 2001, in accordance with Standard Paragraph E at the end of this notice.

24. California Power Exchange Corporation

[Docket No. ER01-80-001]

Take notice that on December 13, 2000, the California Power Exchange Corporation (CalPX), on behalf of its CalPX Trading Services Division (CTS), tendered for filing revised tariff sheets to comply with the Commission's November 22, 2000 order in this proceeding (93 FERC ¶61,199).

CTS has served copies of the filing on the official service list in this proceeding and on the California Public Utilities Commission and has posted a copy of the filing on its website.

Comment date: January 4, 2001, in accordance with Standard Paragraph E at the end of this notice.

25. Indianapolis Power & Light Company

[Docket No. ER00-3518-002]

Take notice that on December 18, 2000, Indianapolis Power & Light Company (IPL) tendered for filing notice that its Interconnection, Maintenance and Operation Agreement accepted for filing in Docket No. ER00-3518-000 became effective November 20, 2000 upon closing of the sale of IPL's Perry Steam Plant and electric generators to Citizens Gas & Coke Utility.

Copies of this filing have been served upon Citizens Gas & Coke Utility and the Indiana Utility Regulatory Commission.

Comment date: January 8, 2001, in accordance with Standard Paragraph E at the end of this notice.

26. PECO Energy Company

[Docket No. ER01-676-000]

Take notice that on December 13, 2000, PECO Energy Company (PECO), tendered under Section 205 of the Federal Power Act, 16 U.S.C. S 792 et seq., an Agreement dated December 11, 2000 with The Detroit Edison Company (DECO) under PECO's FERC Electric Tariff Original Volume No. 1 (Tariff).

PECO requests an effective date of December 11, 2000, for the Agreement.

PECO states that copies of this filing have been supplied to The Detroit Edison Company and to the Pennsylvania Public Utility Commission.

Comment date: January 5, 2001, in accordance with Standard Paragraph E at the end of this notice.

27. Consumers Energy Company

[Docket No. ER01-654-000]

Take notice that on December 14, 2000, Consumers Energy Company (Consumers), tendered for filing a Letter Agreement between Decker Energy International, Inc. (Decker) and Consumers, dated November 14, 2000, (Agreement). Under the Agreement, Consumers is to procure property interests associated with providing an electrical connection between a generating plant to be built by Decker and Consumers' transmission system.

Consumers requested that the Agreements be allowed to become effective November 14, 2000.

Copies of the filing were served upon Decker and the Michigan Public Service Commission.

Comment date: January 5, 2001, in accordance with Standard Paragraph E at the end of this notice.

28. Southwestern Electric Power Company

[Docket No. ER01-655-000]

Take notice that on December 14, 2000, Southwestern Electric Power Company (SWEPCO) tendered for filing a Restated and Amended Power Supply Agreement (Restated PSA) between SWEPCO and the City of Bentonville, Arkansas (Bentonville). The Restated PSA supersedes, in its entirety, the 1991 Power Supply Agreement, as amended, between SWEPCO and Bentonville.

SWEPCO seeks an effective date of June 15, 2000 for the Restated PSA and, accordingly, seeks waiver of the Commission's notice requirements.

Copies of the filing have been served on Bentonville and on the Arkansas Public Service Commission.

Comment date: January 5, 2001, in accordance with Standard Paragraph E at the end of this notice.

29. Automated Power Exchange, Inc.

[Docket No. ER01-659-000]

Take notice that on December 14, 2000, Automated Power Exchange, Inc., tendered for filing a rate schedule under which APX will offer power exchange services in the APX Midwest Market.

Comment date: January 5, 2001, in accordance with Standard Paragraph E at the end of this notice.

30. West Texas Utilities Company

[Docket No. ER01-665-000]

Take notice that on December 14, 2000, West Texas Utilities Company (WTU) filed revisions to the service agreements under WTU's Wholesale Power Choice Tariff (WPC Tariff) between WTU and Concho Valley Electric Cooperative, Inc., Coleman County Electric Cooperative, Inc., Golden Spread Electric Cooperative, Inc., Lighthouse Electric Cooperative, Inc., Rio Grande Electric Cooperative, Inc., Southwest Electric Cooperative, Inc. and Taylor Electric Cooperative, Inc., (WPC Customers). WTU states that these revisions reflect changes in the Points of Delivery for these WPC Customers. WTU requests an effective date for these revisions of January 1, 2001.

Accordingly, WTU requests waiver of the Commission's notice requirements.

WTU states that a copy of the filing was served on the WPC Customers and the Public Utility Commission of Texas.

Comment date: January 5, 2001, in accordance with Standard Paragraph E at the end of this notice.

31. Public Service Company of New Hampshire; Citizens Utilities Company

[Docket No. ER01-674-000]

Take notice that on December 14, 2000, Public Service Company of New Hampshire, tendered for filing a Notice of Cancellation of its FERC Rate Schedule No. 110 providing wholesale requirements service to Citizens Utilities Company.

Copies of this filing were served upon Citizens Utilities Company, the Clerk of the Vermont Public Service Board and the Executive Director and Secretary of the New Hampshire Public Utilities Commission.

Comment date: January 5, 2001, in accordance with Standard Paragraph E at the end of this notice.

32. Alliant Energy Corporate Services, Inc.

[Docket No. ER01-312-001]

Take notice that on December 14, 2000, Alliant Energy Corporate Services, Inc., tendered for filing an amendment in the captioned proceeding requesting that its amended open access transmission tariff be accepted for filing effective as of the date American Transmission Company, LLC (ATCLLC), commences operations and Wisconsin Power and Light Company and its wholly-owned subsidiary, South Beloit Water, Gas and Electric Company, transfer their transmission facilities to ATCLLC.

Comment date: January 5, 2001, in accordance with Standard Paragraph E at the end of this notice.

33. American Electric Power Service Corporation

[Docket No. ER01-664-000]

Take notice that on December 14, 2000, the American Electric Power Service Corporation (AEPSC), tendered for filing an executed Firm Point-to-Point Transmission Service Agreement for Tennessee Valley Authority and executed Firm and Non-Firm Point-to-Point Transmission Service Agreements for Engage Energy America Corporation. All of these agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after December 1, 2000.

A copy of the filing was served upon the Parties and the state utility regulatory commissions of Arkansas, Indiana, Kentucky, Louisiana, Michigan, Ohio, Oklahoma, Tennessee, Texas, Virginia and West Virginia.

Comment date: January 5, 2001, in accordance with Standard Paragraph E at the end of this notice.

34. Edison Sault Electric Company

[Docket No. ER01-663-000]

Take notice that on December 14, 2000, Edison Sault Electric Company (Edison Sault) tendered for filing a fully executed Supplemental Agreement No. 9 to the Contract for Electric Service, dated December 12, 2000 between Edison Sault and Cloverland Electric Cooperative, Inc.

Comment date: January 5, 2001, in accordance with Standard Paragraph E at the end of this notice.

35. Central Maine Power Company

[Docket No. ER01-657-000]

Take notice that on December 14, 2000, Central Maine Power Company (CMP), tendered for filing as an initial rate schedule pursuant to Section 35.12 of the Federal Energy Regulatory Commission's (the Commission) Regulations, 18 CFR 35.12, an executed interconnection agreement (the Agreement) between CMP and Kennebec Water District (Kennebec).

The Agreement is intended to replace and supersede the unexecuted interconnection agreement filed by CMP on March 31, 2000. As such, CMP is requesting that the Agreement become effective March 1, 2000.

Copies of this filing have been served upon the Commission, the Maine Public Utilities Commission, and Kennebec.

Comment date: January 5, 2001, in accordance with Standard Paragraph E at the end of this notice.

36. Central Maine Power Company

[Docket No. ER01-656-000]

Take notice that on December 14, 2000, Central Maine Power Company (CMP), tendered for filing as an initial rate schedule pursuant to Section 35.12 of the Federal Energy Regulatory Commission's (the Commission) Regulations, 18 CFR 35.12, an executed interconnection agreement (the Agreement) between CMP and Moosehead Energy, Inc., (Moosehead).

The Agreement is intended to replace and supersede the unexecuted interconnection agreement filed by CMP on March 31, 2000. As such, CMP is requesting that the Agreement become effective March 1, 2000.

Copies of this filing have been served upon the Commission, the Maine Public Utilities Commission, and Moosehead.

Comment date: January 5, 2001, in accordance with Standard Paragraph E at the end of this notice.

37. Automated Power Exchange, Inc.

[Docket No. ER01-658-000]

Take notice that on December 14, 2000, Automated Power Exchange, Inc., tendered for filing a new rate schedule under which APX will offer power exchange services in the APX California Market.

Comment date: January 5, 2001, in accordance with Standard Paragraph E at the end of this notice.

38. Northeast Utilities Service Company

[Docket No. ER01-662-000]

Take notice that on December 14, 2000, Northeast Utilities Service Company (NUSCO), tendered for filing a Service Agreement to provide Non-Firm Point-To-Point Transmission Service to USGen New England Inc., under the NU System Companies' Open Access Transmission Service Tariff No. 9.

NUSCO states that a copy of this filing has been mailed to USGen New England Inc.

NUSCO requests that the Service Agreement become effective January 8, 2001.

Comment date: January 5, 2001, in accordance with Standard Paragraph E at the end of this notice.

39. U.S. Department of Energy, Bonneville Power Administration

[Docket No. NJ01-1-000]

Take notice that on December 13, 2000, the Bonneville Power Administration (Bonneville), tendered for filing pursuant to 18 CFR 35.28(e) and 18 CFR part 385.207, its Open Access Transmission Tariff (OATT) terms and conditions to the Federal Energy Regulatory Commission (Commission) and petitioned the Commission for a declaratory order finding that Bonneville's proposed OATT satisfies the Commission's reciprocity compliance principles. Bonneville seeks such approval to be effective October 1, 2001.

Bonneville currently has an open access transmission tariff which has received the Commission's reciprocity approval. Order Granting Petition for Declaratory Order, Subject to Filing of Tariff Modifications, and Granting Exemption from Filing Fee, 80 F.E.R.C. 61,119 (1997); Order Accepting Compliance Reciprocity Tariff Subject to Certain Required Modifications, 84 F.E.R.C. 61,068 (1998); Order Accepting Compliance Reciprocity Tariff, 86 F.E.R.C. 61,278 (1999); Order Finding Amended Open Access Tariff to be Acceptable Reciprocity Tariff and Dismissing Complaint, 87 F.E.R.C. 61,351 (1999). Bonneville is revising its tariff at this time to ensure consistency with Bonneville's proposed FY 2002-2003 transmission rates, and to conform more closely to the Commission's pro forma tariff.

Comment date: January 8, 2001, in accordance with Standard Paragraph E at the end of this notice.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-32820 Filed 12-22-00; 8:45 am]

BILLING CODE 6717-01-U